DEPARTMENT OF AGRICULTURE

Forest Service

Ontonagon Resource Advisory Committee

AGENCY: Forest Service, USDA.

ACTION: Notice of meeting.

SUMMARY: The Ontonagon Resource Advisory Committee will meet in Kenton, Michigan on the dates listed below. The Committee is authorized under the Secure Rural Schools and Community Self-Determination Act of 2000, (the Act) (Pub. L.112-141) and operates in compliance with the Federal Advisory Committee Act (FACA) (Pub. L. 92-463). The RAC's purposes are to improve collaborative relationships and to provide advice and recommendations to the Forest Service concerning projects and funding consistent with the Title II of the Act. The meeting is open to the public. The purpose of the meeting is to review progress made on previously approved projects and prioritize future work.

DATES: The meeting will be held on Tuesday, July 30, 2013, at 9:30 a.m. (EST).

ADDRESSES: The meeting will be held at the Kenton Ranger District Office, 4810 E. M28, Kenton, Michigan.

Written comments may be submitted as described under Supplementary Information listed below. All comments, including names and addresses when provided, are placed in the record and are available for public inspection and copying. The public may inspect comments at the Ottawa National Forest Headquarters, E6248 US HWY 2, Ironwood, MI. Please call ahead at 906-932-1330 to facilitate entry into the building to view comments.

FOR FURTHER INFORMATION CONTACT: Lisa Klaus, RAC Coordinator, USDA, Ottawa National Forest Headquarters, E6248 US HWY 2, Ironwood, MI, 906-932-1330, ext. 328, or via email lklaus@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The agenda will include the following:

1. Review and approval of previous meeting minutes;

2. Review progress of previously approved projects and establish priorities for remaining projects; and

3. Public comments.

Anyone who would like to bring related matters to the attention of the Committee may file written statements with the Committee staff before or after the meeting. The agenda will include time for people to make oral statements of three minutes or less. Individuals wishing to make an oral statement should request in writing by July 23, 2013, to be scheduled on the agenda. Written comments and requests for time for oral comments must be sent to Lisa Klaus, Ottawa National Forest, E6248 US HWY 2, Ironwood, MI 49938; Email: lklaus@fs.fed.us; or Facsimile: 906-932-0122.

A summary of the meeting will be posted at: https://fsplaces.fs.fed.us/fsfiles/unit/wo/secure_rural_schools.nsf/RAC/Ontonagon+County?OpenDocument within 21 days of the meeting.

If you are a person requiring reasonable accommodation, please make requests in advance for sign language interpreting, assistive listening devices, or other reasonable accommodations for access to the facility for proceedings by contacting the person listed under FOR FURTHER INFORMATION CONTACT. All reasonable accommodation requests are managed on a case by case basis.

Dated: July 2, 2013.
Anthony Scardina,
Forest Supervisor.

[FR Doc. 2013-16553 Filed 7-9-13; 8:45 am]

BILLING CODE 3410-11-P